SECURITIES AND EXCHANGE COMMISSION

[File No. 500-1]

In the Matter of Med Pro Venture Capital, Inc; Order of Suspension of Trading

February 6, 2015.

It appears to the Securities and Exchange Commission that there is a lack of current and accurate information concerning the securities of Med Pro Venture Capital, Inc., f/k/a Modern PVC, Inc. because of questions regarding the accuracy of publicly available information about the company's operations, including questions about the accuracy of statements in a company press release dated January 12, 2015 and a paid analyst's report issued on January 9, 2015 describing a strategic partnership with GO CNG technologies. Med Pro Venture Capital, Inc. is a Nevada corporation with its principal place of business located in Scottsdale, Arizona. Its stock is quoted on OTC Link, operated by OTC Markets Group Inc., under the ticker: MPVC.

The Commission is of the opinion that the public interest and the protection of investors require a suspension of trading in the securities of the above-listed company.

Therefore, It Is Ordered, pursuant to Section 12(k) of the Securities Exchange Act of 1934, that trading in the securities of the above-listed company is suspended for the period from 9:30 a.m. EST on February 6, 2015, through 11:59 p.m. EST on February 20, 2015.

By the Commission.
Jill M. Peterson,
Assistant Secretary.

[FR Doc. 2015-02794 Filed 2-6-15; 11:15 am]

BILLING CODE 8011-01-P